DEPARTMENT OF STATE

[Public Notice: 10437]

Biodiversity Beyond National Jurisdiction; Notice of Public Meeting

ACTION: Notice of public meeting.

SUMMARY: The Department of State will hold an information session regarding issues related to upcoming first United Nations Intergovernmental Conference on marine biodiversity in areas beyond national jurisdiction.

DATES: The public meeting will be held on July 25, 2018, 1:30 p.m.-3:00 p.m.

ADDRESSES: The meeting will be held at the Harry S. Truman Main State Building, Room 1498, 2201 C Street NW, Washington, DC 20520.

FOR FURTHER INFORMATION CONTACT: If you would like to participate in this meeting, please send your (1) name, (2) organization/affiliation, and (3) email address and phone number, as well as any requests for reasonable accommodation, to Elana Mendelson at MendlesonEK@state.gov or call (202) 647-1073.

SUPPLEMENTARY INFORMATION: In September 2018, the United States will participate in the first session of the Intergovernmental Conference established by the United Nations General Assembly (UNGA) to negotiate an international legally binding instrument under the United Nations Convention on the Law of the Sea on the conservation and sustainable use of marine biological diversity beyond areas of national jurisdiction.

We will provide a brief overview of the issues to be discussed at the upcoming session of the Intergovernmental Conference and would like to invite interested stakeholders to share comments, concerns, and questions about these issues.

The information obtained from this session and any subsequent related meetings will be used to help us prepare for U.S. participation in international meetings and specifically U.S. participation in the Intergovernmental Conference.

Reasonable Accommodation: This meeting is physically accessible to people with disabilities. Requests for sign language interpretation or other reasonable accommodation should be directed to the point of contact for this event (see FOR FURTHER INFORMATION CONTACT) at least 5 days prior to the meeting date. Requests received after that date will be considered, but might not be possible to fulfill. Personal data for entry into the Harry S. Truman building are requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://www.state.gov/documents/organization/242611.pdf for additional information.

Evan T. Bloom,
Director, Office of Ocean and Polar Affairs, Bureau of Oceans and International Environmental and Scientific Affairs, Department of State.

[FR Doc. 2018-14221 Filed 7-2-18; 8:45 am]

BILLING CODE 4710-09-P